DEPARTMENT OF THE INTERIOR

Bureau of Land Management

[MT-040-1430-EU; SDM 87107]

Notice of Realty Action, Direct Sale of Public Lands, Lawrence County, SD; Correction

AGENCY: Bureau of Land Management, Interior.

ACTION: Notice.

SUMMARY: The Bureau of Land Management published a document in the Federal Register of August 28, 2003, concerning a Notice of Realty Action for a Direct Sale of Public Lands. The document contained an incorrect legal description.

FOR FURTHER INFORMATION CONTACT: Kym Dowdle, 406-896-5046.

Correction

In the Federal Register of August 28, 2003, in FR Doc. 03-22059 on Page 51796, in the first column, correct the legal description of “T. 4. N., R 3 E.,” to read: “T. 5 N., R 2 E.,”.

Dated: January 12, 2005.
Howard A. Lemm,
Deputy State Director, Division of Resources.

[FR Doc. 05-1476 Filed 1-26-05; 8:45 am]

BILLING CODE 4310-AG-P